DEPARTMENT OF COMMERCE

International Trade Administration

[A-560-828]

Certain Uncoated Paper From Indonesia: Notice of Correction to Rescission, in Part, of Antidumping Duty Administrative Review; 2015-2017

AGENCY: Enforcement and Compliance, International Trade Administration, Department of Commerce.

FOR FURTHER INFORMATION CONTACT: Manuel Rey, Enforcement and Compliance, International Trade Administration, U.S. Department of Commerce, 1401 Constitution Avenue NW., Washington, DC 20230; telephone: (202) 482-5518.

SUPPLEMENTARY INFORMATION: On August 11, 2017, the Department of Commerce (the Department) published in the Federal Register a notice to rescind, in part, the antidumping duty administrative review for PT. Indah Kiat Pulp and Paper Tbk, PT. Pabrik Kertas Tjiwi Kimia Tbk, and Pindo Deli Pulp and Paper Mills (collectively, APP).¹ The period of review is August 26, 2015, through February 28, 2017. In the Rescission Notice, the Department inadvertently misspelled the name of one of the companies above as PT. Pabrik Kertas Tjiwi Kirnja Tbk, rather than the correct spelling of PT. Pabrik Kertas Tjiwi Kimia Tbk and erroneously included the letters “PT” in front of the company Pindo Deli Pulp and Paper Mills in the summary section of the Rescission Notice. As a result, we now correct the Recission Notice to rescind the review with respect to PT. Indah Kiat Pulp and Paper Tbk, PT. Pabrik Kertas Tjiwi Kimia Tbk, and Pindo Deli Pulp and Paper Mills.

¹ See Certain Uncoated Paper from Indonesia: Rescission, in Part, of Antidumping Duty Administrative Review; 2015-2017, 82 FR 37565 (August 11, 2017) (Rescission Notice).

This correction to the notice of rescission is issued and published in accordance with sections 751 and 777(i)(1) of the Tariff Act of 1930, as amended.

Dated: September 19, 2017.
James Maeder,
Senior Director of Antidumping and Countervailing Operations Office 1, performing the duties of the Deputy Assistant Secretary for Antidumping and Countervailing Duty Operations.

[FR Doc. 2017-20266 Filed 9-21-17; 8:45 am]

BILLING CODE 3510-DS-P